DEPARTMENT OF JUSTICE

Bureau of Alcohol, Tobacco, Firearms and Explosives

[OMB Number 1140-0036]

Agency Information Collection Activities; Proposed eCollection eComments Requested; FFL Out of Business Records Request (ATF F 5300.3A)

AGENCY: Bureau of Alcohol, Tobacco, Firearms and Explosives, Department of Justice.

ACTION: 30-day notice.

SUMMARY: The Department of Justice (DOJ), Bureau of Alcohol, Tobacco, Firearms and Explosives (ATF), will submit the following information collection request to the Office of Management and Budget (OMB) for review and approval in accordance with the Paperwork Reduction Act of 1995. The proposed information collection was previously published in the Federal Register 81 FR 7588, on February 12, 2016, allowing for a 60-day comment period.

DATES: Comments are encouraged and will be accepted for an additional 30 days until June 6, 2016.

FOR FURTHER INFORMATION CONTACT: If you have additional comments especially on the estimated public burden or associated response time, suggestions, or need a copy of the proposed information collection instrument with instructions or additional information, please contact Kris Howard, Program Manager, National Tracing Center Division, 244 Needy Road, Martinsburg, WV 25405, at email: kris.howard@atf.gov. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Extension, without change, of a currently approved collection.

2. The Title of the Form/Collection: FFL Out of Business Records Request

3. The agency form number, if any, and the applicable component of the Department sponsoring the collection:

Form number: ATF F 5300.3A

Component: Bureau of Alcohol, Tobacco, Firearms and Explosives, U.S. Department of Justice.

4. Affected public who will be asked or required to respond, as well as a brief abstract:

Primary: Business or other for-profit.

Other (if applicable): None.

Abstract: The form is used by ATF to notify licensees that go out of business to send their firearms related business records to the ATF, if the business discontinuance is absolute, or to allow the licensee to notify ATF of the successor who will be maintaining control of their firearms related records. The questions are simple and a return address is supplied. The format is easy for the user to list the required information ATF needs to perform its functions in regard to the law.

5. An estimate of the total number of respondents and the amount of time estimated for an average respondent to respond: An estimated 2,745 respondents will take 5 minutes to complete the survey.

6. An estimate of the total public burden (in hours) associated with the collection: The estimated annual public burden associated with this collection is 228.75 hours.

If additional information is required contact: Jerri Murray, Department Clearance Officer, United States Department of Justice, Justice Management Division, Policy and Planning Staff, Two Constitution Square, 145 N Street NE., Room 3E-405B, Washington, DC 20530.

Dated: May 3, 2016.
Jerri Murray,
Department Clearance Officer for PRA, U.S. Department of Justice.

[FR Doc. 2016-10683 Filed 5-5-16; 8:45 am]

BILLING CODE 4410-FY-P